EXECUTIVE OFFICE OF THE PRESIDENT

Office of National Drug Control Policy

Draft Tribal Consultation Policy

AGENCY: Executive Office of the President, Office of National Drug Control Policy.

ACTION: Notice of 60-day public comment period.

SUMMARY: Pursuant to Executive Order 13175, the Director, National Drug Control Policy, is establishing a policy governing how the Office of National Drug Control Policy, Executive Office of the President [ONDCP] will consult with American Indian and Alaska Native Tribes, tribal organizations and urban Indian organizations regarding Federal policies that directly affect Indian Country and urban Indian communities.

Table of Contents

1. Dates

2. Addresses

3. For further information contact

4. Supplementary Information

5. ONDCP Draft Consultation Policy

Background

Guiding Principles

Tribal Consultation Process

ONDCP Annual National Tribal Consultation Meetings

ONDCP Tribal Consultation Team

ONDCP Tribal Communication Plan

ONDCP Continuous Review and Evaluation

ONDCP Intergovernmental Collaboration

ONDCP Point of Contact

Tribal Review of Draft Consultation Policy

No Creation of Right or Benefit

Federal Register Notice

Review of Comments

Final Tribal Consultation Policy Publication

1. Dates

Comments must be received by ONDCP on or before 5 p.m. Friday June 3, 2011.

2. Addresses

Written comments may be submitted through electronic mail at TribalConsultation@ondcp.eop.gov or via facsimile at (202) 395-5543 to Executive Office of the President, Office of National Drug Control Policy, Office of Intergovernmental & Public Liaison, c/o Office of Legal Counsel, Washington DC 20503.

3. For Further Information Contact

Mr. Tony Martinez, Associate Director, Office of Intergovernmental & Public Liaison, Office of National Drug Control Policy, Executive Office of the President, 750 17th Street, NW., Washington, DC 20503; MMartinez@ondcp.eop.gov; (202) 395-5758 (This is not a toll-free number); toll-free 1-888-395-6327.

4. Supplementary Information

The Office of National Drug Control Policy (ONDCP), Executive Office of the President, is responsible for setting and monitoring Federal government policies to reduce the demand for illegal drugs; prevent the initiation of substance use by young people; combat drug production and trafficking; and, reduce drug-related crime, violence, and disease. In addition to its leadership role in developing and coordinating drug control policies, ONDCP is also a central organizing body, managing the anti-drug efforts and certifying the drug control budgets of other Federal government agencies.

As directed by President Obama in his Memorandum of November 5, 2009, this draft policy governs how the Office of National Drug Control Policy will comply with the letter and spirit of Executive Order 13175 of November 6, 2000, Consultation and Coordination with Indian Tribal Governments.

5. Draft Tribal Consultation Policy

Background

The Office of National Drug Control Policy (ONDCP), Executive Office of the President, is responsible for setting and monitoring Federal government policies to reduce the demand for illegal drugs; prevent the initiation of substance use by young people; combat drug production and trafficking; and, reduce drug-related crime, violence, and disease. In addition to its leadership role in developing and coordinating drug control policies, ONDCP is also a central organizing body, managing the anti-drug efforts and certifying the drug control budgets of other Federal government agencies.

As directed by President Obama in his Memorandum of November 5, 2009, this draft policy governs how the Office of National Drug Control Policy will comply with the letter and spirit of Executive Order 13175 of November 6, 2000, Consultation and Coordination with Indian Tribal Governments. By implementing this policy, ONDCP will engage in meaningful and mutually beneficial consultation with American Indian and Alaska Native Tribes, tribal organizations, and urban Indian organizations. ONDCP's tribal consultation activities will support Indian self-determination and self-governance by giving tribes strong voices in shaping the Federal policies that directly affect their ability to govern themselves and to provide for the health, safety, and welfare of their citizens.

Guiding Principles

ONDCP acknowledges and accepts the following definition of consultation:

Consultation is an enhanced form of communication which emphasizes trust, respect, and shared responsibility. It is an open and free exchange of information and opinion among parties which leads to mutual understanding and comprehension. Consultation is integral to a deliberative process, which results in an effective collaboration and informed decision making.

ONDCP's Tribal Consultation Policy will provide for regular, meaningful, and mutually-beneficial consultation and collaboration to enhance ONDCP's relationships with American Indian and Alaska Native Tribes, tribal organizations and urban Indian organizations. The Policy will address the concerns and responsibilities of Federal and American Indian and Alaska Native Tribes, tribal organizations, and urban Indian organizations. Through creation and implementation of this policy ONDCP:

• Commits to seeking to understand the cultural values of American Indian and Alaska Native Tribes, tribal organizations, and urban Indian organizations to facilitate the development of Federal drug control policies which will be effective in Indian country and beneficial to Native peoples;

• Recognizes the special legal status of tribal governments;

• Respects tribal sovereignty and supports tribal self-determination and self-governance;

• Honors the United States trust obligations;

• Commits to improving communications while maximizing input from American Indian and Alaska Native Tribes, tribal organizations, and urban Indian organizations;

• Will consult on a government-to-government basis with appropriate representatives of American Indian and Alaska Native Tribes, tribal organizations, and urban Indian organizations;

• Identifies ONDCP officials who are knowledgeable about policies relevant to tribal populations and are authorized to speak for ONDCP; and

• Ensures ONDCP's component heads and program staff engage in consultation in a manner consistent with this ONDCP-wide policy.

ONDCP Tribal Consultation Process

1. Consultation will be initiated when either ONDCP's Director, Tribal Liaison or an American Indian or Alaska Native Tribe, tribal organization or urban Indian organization requests in writing consultation to discuss policy development issues or implementation or changes that will have a direct effect upon Indian country or Native peoples.

2. Requests for consultation will identify:

a. The subject matter requiring consultation

b. The relevant policies, programs, statutes, or proposed legislation

c. The American Indian and Alaska Native Tribes, tribal organizations and/or urban Indian organizations which will be directly affected

3. Methods of Consultation.

ONDCP Tribal Consultation may occur through a combination of one or more of the following methods of consultation:

a. Correspondence: Written communications exchanged between ONDCP and directly affected American Indian and Alaska Native Tribes, tribal organizations, and/or urban Indian organizations. Correspondence should provide an explanation of the issue(s) and afford an opportunity for tribal comment.

b. Meetings: Meetings with directly affected American Indian and Alaska Native Tribes, tribal organizations, and/or urban Indian organizations to discuss all relevant issues can take the form of a single purpose meeting or a national or regional forum, if appropriate. Meetings can be face-to-face or using electronic technology, when available and appropriate.

c. Federal Register: ONDCP publication in the Federal Register may be used to solicit comments from tribes, with explicit instructions for submitting comments and adequate time for responses from directly affected American Indian and Alaska Native Tribes, tribal organizations, and/or urban Indian organizations.

4. Reporting of Consultation Outcome: ONDCP program offices will provide a report on their consultation sessions, summarizing the discussion, recommendations, responses, and soliciting feedback from directly affected American Indian and Alaska Native Tribes, tribal organizations, and/or urban Indian organizations regarding the consultation following the conclusion of the tribal consultation process. The ONDCP report will be available on the ONDCP Web site at http://www.whitehousedrugpolicy.gov/tribal/consultation. Once ONDCP's Tribal Consultation Process is complete and a proposed drug control policy is approved and issued by ONDCP, ONDCP will distribute the final policy to directly affected American Indian and Alaska Native Tribes, tribal organizations, and/or urban Indian organizations. The final drug control policy will also be posted on the ONDCP Web site at http://www.whitehousedrugpolicy.gov/tribal and linked to the Web sites of appropriate national tribal and native organizations.

ONDCP Annual National Tribal Consultation Meetings

Subject to appropriations, ONDCP will endeavor to attend three annual meetings of national tribal organizations, including the annual National Congress of American Indians Conference.

ONDCP Tribal Consultation Team

ONDCP will create a tribal consultation team; which will include representatives of ONDCP's Office of the Director; Office of Intergovernmental & Public Liaison; Office of Legal Counsel; Office of State, Local and Tribal Affairs; Office of Demand Reduction; Office of Supply Reduction; Office of Planning and Budget; Office of Research and Data Analysis; Office of Legislative Affairs; and Office of Public Affairs. ONDCP's Associate Director for Intergovernmental and Public Liaison or his/her designee will lead ONDCP's Tribal Consultation Process and ONDCP's Tribal Consultation Team to review and identify opportunities to strengthen and improve ONDCP outreach to tribal governments as well as tribal communication and consultation.

ONDCP Tribal Communication Plan

In furtherance of the President's goals for tribal consultation and policy of Federal transparency, ONDCP will develop a communications plan, including new media, for regularly communicating with and requesting input from American Indian and Alaska Native Tribes, tribal organizations, and urban Indian organizations about Federal drug control policies which directly affect them prior to ONDCP action.

ONDCP Continuous Review and Evaluation

ONDCP will regularly review its policies, actions, procedures, and practices to identify Federal drug control policies which directly affect American Indian and Alaska Native Tribes, tribal organizations, and urban Indian organizations. These reviews will identify opportunities to strengthen and improve ONDCP's tribal consultation policy. ONDCP will also monitor its practices to ensure effective and consistent implementation of its tribal consultation policy.

ONDCP Intergovernmental Collaboration

ONDCP will participate in timely recurring meetings with other Federal drug control agencies subject to Executive Order 13175, regarding policies which directly affect American Indian and Alaska Native Tribes, tribal organizations, and urban Indian organizations in order to streamline the consultation process and create consistent and effective mutually beneficial communications with American Indian and Alaska Native Tribes, tribal organizations and urban Indian organizations. These interagency meetings will identify Federal drug control issues arising within the agencies which directly affect American Indian and Alaska Native Tribes, tribal organizations and urban Indian organizations and which need to be communicated to the tribes or rise to the level of consultation.

ONDCP Point of Contact

ONDCP designates its Associate Director for Intergovernmental & Public Liaison as the responsible official for submitting progress reports and ensuring ONDCP's compliance with this tribal consultation policy and related action plans.

Tribal Review of Draft Consultation Policy

ONDCP will circulate the draft tribal consultation policy to American Indian and Alaska Native Tribes, tribal organizations, and urban Indian organizations for review and comment. ONDCP's tribal consultation team will consider the comments received and revise the draft tribal consultation policy, if necessary, in response to comments.

No Creation of Right or Benefit

This policy is not intended to, and does not, create any right or benefit, substantive or procedural, enforceable by law or in equity by any party against ONDCP or the United States, its departments, agencies, or entities, its officers, employees, or agents or any other person. ONDCP shall carry out the provisions of this policy to the extent permitted by law and consistent with its statutory authorities and enforcement mechanisms.

Federal Register Notice

ONDCP will publish this draft tribal consultation policy in the Federal Register and provide a 60-day comment period.

Review of Comments

ONDCP's tribal consultation team will review and consider the comments received regarding the draft tribal consultation policy and revise the draft policy, if necessary, in response to comments received.

Final Tribal Consultation Policy Publication

ONDCP will issue its final tribal consultation policy within 90 days of the close of the comment period.

Dated: March 29, 2011.
Linda V. Priebe,
Deputy General Counsel, Office of National Drug Control Policy.

[FR Doc. 2011-7833 Filed 4-1-11; 8:45 am]

BILLING CODE 3180-02-P